SECURITIES AND EXCHANGE COMMISSION

Sunshine Act Meeting

Federal Register Citation of Previous Announcement: [80 FR 38782, July 7, 2015]

STATUS: Closed Meeting.

PLACE: 100 F Street NE., Washington, DC.

DATE AND TIME OF PREVIOUSLY ANNOUNCED MEETING: Thursday, July 9, 2015 at 2 p.m.

CHANGE IN THE MEETING: Time Change.

The Closed Meeting scheduled for Thursday, July 9, 2015 at 2 p.m. has been changed to Thursday, July 9, 2015 at 1 p.m.

At times, changes in Commission priorities require alterations in the scheduling of meeting items. For further information and to ascertain what, if any, matters have been added, deleted or postponed, please contact the Office of the Secretary at (202) 551-5400.

Dated: July 7, 2015.
Brent J. Fields,
Secretary.

[FR Doc. 2015-16982 Filed 7-8-15; 11:15 am]

BILLING CODE 8011-01-P